INTERNATIONAL TRADE COMMISSION

[Investigation No. 337-TA-1421]

Certain Rechargeable Batteries and Components Thereof; Notice of a Commission Determination To Issue a Limited Exclusion Order; Termination of Investigation

AGENCY: U.S. International Trade Commission.

ACTION: Notice.

SUMMARY: Notice is hereby given that the U.S. International Trade Commission (“Commission”) has determined to issue a limited exclusion order (“LEO”) barring entry of certain rechargeable batteries and components thereof by or on behalf of respondent Shenzhen Yichen S-Power Tech Co. LTD (“Yichen”) of Shenzhen, China previously found to be in default. The investigation is terminated.

FOR FURTHER INFORMATION CONTACT: Paul Lall, Office of the General Counsel, U.S. International Trade Commission, 500 E Street SW, Washington, DC 20436, telephone (202) 205-2043. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On October 21, 2024, the Commission instituted the investigation based on a complaint filed by complainants LithiumHub, LLC of Norris, SC, Lithiumhub Technologies, LLC of Marshall, TX, and Martin Koebler of Norris, SC (collectively, “Lithiumhub”). 89 FR 84194-95 (Oct. 21, 2024). The complaint, as supplemented, alleges violations of section 337 of the Tariff Act of 1930, as amended, 19 U.S.C. 1337 (“section 337”), based upon the importation into the United States, the sale for importation, and the sale within the United States after importation of certain rechargeable batteries and components thereof by reason of the infringement of certain claims of U.S. Patent Nos. 9,412,994 and 9,954,207 (the “Asserted Patents”). The Commission's notice of investigation (“NOI”) named the following respondents: Yichen; Clean Republic SODO LLC (“Dakota”) of Seattle, WA; Shenzhen Fbtech Electronics LTD (“Fbtech Electronics”) of Shenzhen, China; Shenzhen LiTime Technology Co., LTD (“LiTime Technology”) of Shenzhen, China; MillerTech Energy Solutions LLC (“MillerTech Energy”) of Middlefield, OH; Relion Battery (Shenzhen) Technology Co. (“Relion”) of Shenzhen, China; Renogy New Energy Co., Ltd. (“Renogy”) of Suzhou City, China; RNG International Inc. (“RNG”) of Ontario, CA; Navico Group Americas, LLC (“Navico”) of Menomonee Falls, WI; Dragonfly Energy Corp. and Dragonfly Energy Holdings Corp. (collectively, “Dragonfly”), both of Reno, NV; Bass Pro Outdoor World LLC of Springfield, MO; and Cabela's LLC of Springfield, MO. Id. The Office of Unfair Import Investigations (“OUII”) was also named as a party in this investigation. Id.

On February 3, 2025, the Commission found Yichen to be in default. See Order No. 11 (Jan. 8, 2025), unreviewed by Comm'n Notice (Feb. 3, 2025).

On May 29, 2025, Lithiumhub filed a “Declaration Seeking Immediate Relief” against defaulting respondent Yichen, pursuant to Commission Rule 210.16(c)(1) (19 CFR 210.16(c)(1)). The declaration requests entry of a limited exclusion order (“LEO”) and a cease and desist order (“CDO”) against Yichen.

The Commission terminated the remaining respondents based on settlement agreements. See Order No. 19 (March 21, 2025), unreviewed by Comm'n Notice (April 21, 2025) (Dragonfly); Order No. 25 (April 29, 2025), unreviewed by Comm'n Notice (May 20, 2025) (Navico); Order Nos. 30 and 31 (June 2, 2025), unreviewed by Comm'n Notice (June 20, 2025) (Relion, Renogy, and RNG); Order Nos. 34-37, unreviewed by Comm'n Notice (Aug. 4, 2025) (Dakota, MillerTech Energy, Fbtech Electronics and LiTime Technology); Order No. 38 (July 22, 2025), unreviewed by Comm'n Notice, 90 FR 40396-98 (Aug. 19, 2025) (Bass Pro).

In its notice determining not to review Order No. 38 (the “Remedy Notice”) terminating the last remaining respondents, the Commission asked parties to the investigation, interested government agencies, and any other interested parties to file written submissions on the issues of remedy, the public interest, and bonding with respect to defaulting respondent Yichen. 90 FR at 40397-98. On August 27, 2025, Lithiumhub filed a written submission, requesting the Commission to issue an LEO and a CDO against Yichen. On September 4, 2025, OUII filed a reply to Lithiumhub's submission, supporting entry of an LEO but opposing entry of a CDO. The Commission received no other written submissions in response to the Remedy Notice.

When the conditions in section 337(g)(1)(A)-(E) (19 U.S.C. 1337(g)(1)(A)-(E)) have been satisfied, section 337(g)(1) and Commission Rule 210.16(c) (19 CFR 210.16(c)) direct the Commission, upon request, to issue an LEO or a CDO or both against a respondent found in default, based on the allegations regarding a violation of section 337 in the Complaint, which are presumed to be true, unless after consideration of the public interest factors in section 337(g)(1), it finds that such relief should not issue.

Having examined the record of this investigation, including the Complainants' submission in response to the Remedy Notice, the Commission has determined, pursuant to section 337(g)(1) (19 U.S.C. 1337(g)(1)), that the appropriate remedy in this investigation is an LEO prohibiting the unlicensed entry of certain rechargeable batteries and components thereof by reason of the infringement of certain claims of the Asserted Patents. The Commission has determined that the public interest factors enumerated in subsection 337(g)(1) do not preclude the issuance of the requested LEO. The Commission has determined not to issue the requested CDO against Yichen because of the lack of evidence or allegations that Yichen maintains commercially significant inventories and/or engages in significant commercial operations in the United States.¹

¹ Chair Karpel concurs with the issuance of an LEO barring the unlicensed entry of certain rechargeable batteries and components thereof by reason of the infringement of certain claims of the Asserted Patents. In addition, she would have issued a cease and desist order directed to Yichen regardless of domestic business operations or inventories, pursuant to section 337(g)(1). As noted above, in this investigation, the conditions in section 337(g)(1)(A)-(E) (19 U.S.C. 1337(g)(1)(A)-(E)) have been satisfied. Specifically, Yichen was served with the complaint and notice of investigation. Upon Yichen's failure to respond to the complaint and notice of investigation, the presiding ALJ ordered respondent Yichen to show cause as to why it should not be found in default. Order No. 9 (Dec. 19, 2024). Yichen failed to respond to the order to show cause and was found in default. See Order No. 11 (Jan. 8, 2025), unreviewed by Comm'n Notice (Feb. 3, 2025). Thus, the conditions of section 337(g)(1)(A)-(D) are satisfied. Finally, Complainants explicitly requested both an LEO and a CDO directed to Yichen, thereby meeting the requirement of section 337(g)(1)(E). Accordingly, section 337(g)(1) and Commission Rule 210.16(c) (19 CFR 210.16(c)) direct the Commission, upon complainants' request, to issue both the LEO and CDO against Yichen. Chair Karpel further finds that the public interest does not preclude the issuance of a CDO directed to Yichen.

The Commission has further determined to set a bond pursuant to section 337(j) (19 U.S.C. 1337(j)) of one hundred percent (100%) of the entered value of the infringing articles imported during the period of Presidential review that are subject to the LEO.

The investigation is terminated.

The Commission's vote for this determination took place on January 29, 2026.

The authority for the Commission's determination is contained in section 337 of the Tariff Act of 1930, as amended (19 U.S.C. 1337), and in part 210 of the Commission's Rules of Practice and Procedure (19 CFR part 210).

By order of the Commission.
Issued: January 29, 2026.
Lisa Barton,
Secretary to the Commission.

[FR Doc. 2026-02075 Filed 1-30-26; 8:45 am]

BILLING CODE 7020-02-P